DEPARTMENT OF JUSTICE

Office of Justice Programs

Agency Information Collection Activities: New Collection; Comment Request

ACTION: Notice of Information Collection Under Review; Extension of a Currently Approved Collection; Comprehensive Strategy for Serious, Violent, and Chronic Juvenile Offenders Stakeholder Survey.

The Department of Justice, Office of Juvenile Justice and Delinquency Prevention, has submitted the following information collection request for review and clearance in accordance with the Paperwork Reduction Act of 1995. Office of Management and Budget approval is being sought for the information collection listed below. This proposed information collection was previously published in the Federal Register on April 18, 2000, allowing for a 60-day public comment period.

The purpose of this notice is to allow an additional 30 days for public comment until December 6, 2000. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1221, 1331 Pennsylvania Avenue, NW., Washington, DC 20530.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of a currently approved collection.

(2) The title of the form/collection: Comprehensive Strategy for Serious, Violent, and Chronic Juvenile Offenders Stakeholder Survey.

(3) The agency form number, if any, and the applicable component of the Department sponsoring the collection: None; Office of Justice Programs, Office of Juvenile Justice and Delinquency Prevention.

(4) Affected public who will be asked or required to respond, as well as a brief abstract: Primary: Key community stakeholders engaged in the Comprehensive Strategy initiative in their state. Other: None. 42 U.S.C. 5653 authorizes the Office of Juvenile Justice and Delinquency Prevention to collect information on all aspects of the juvenile justice system and juvenile offenders. This survey will collect critical information on the relationship between community and State-level contextual factors and the Comprehensive Strategy planning and implementation processes. The survey will also document the progress and obstacles of implementing Comprehensive Strategy in select communities and the lessons learned in the planning process. The survey will take at most 1 hour and 30 minutes to complete and cover the stakeholders' experiences with the Comprehensive Strategy initiative.

(5) An estimate of the total number of respondents and the amount of time estimated for an average respondent to respond/reply: 250 respondents in 25 sites at 1 hour and 30 minutes per respondent.

(6) An estimate of the total public burden (in hours) associated with the collection: 375 hours including all respondents.

If additional information is required contact: Mrs. Brenda E. Dyer, Deputy Clearance Officer, United States Department of Justice, Information Management and Security Staff, Justice Management Division, Suite 1220, National Place, 1331 Pennsylvania Avenue NW, Washington, DC 20530.

Dated: October 31, 2000.
Brenda E. Dyer,
Department Deputy Clearance Officer, United States Department of Justice.

[FR Doc. 00-28326 Filed 11-3-00; 8:45 am]

BILLING CODE 4410-18-M